DEPARTMENT OF COMMERCE

National Oceanic and Atmospheric Administration

RIN 0648-XS00

Endangered and Threatened Species; Recovery Plans; Recovery Plan for the Kemp's Ridley Sea Turtle

AGENCIES: National Marine Fisheries Service (NMFS), National Oceanic and Atmospheric Administration (NOAA), Commerce; Fish and Wildlife Service (USFWS), Interior.

ACTION: Extension of public comment period.

SUMMARY: On March 16, 2010, we, NMFS and USFWS, announced the availability for public review of the draft Bi-National Recovery Plan (Plan) for the Kemp's Ridley Sea Turtle (Lepidochelys kempii). The Kemp's Ridley Recovery Plan is a bi-national plan developed by the NMFS and USFWS and the Secretary of Environment and Natural Resources, Mexico. We provided a 60-day comment period, ending May 17, 2010, on the draft Plan. We received requests for extension of the public comment period. In response, we are extending the comment period for the draft Plan an additional 45 days.

DATES: Information and comments on the draft Plan must be received by close of business on July 1, 2010.

ADDRESSES: Send comments by any one of the following methods:

(1) Electronic Submissions: Submit all electronic comments via the Federal eRulemaking Portal http://www.regulations.gov.

(2) Mail: NMFS Deputy Chief, Endangered Species Division, Attn: Draft Bi-National Kemp's Ridley Recovery Plan, Office of Protected Resources, National Marine Fisheries Service, 1315 East-West Highway, Room 13535, Silver Spring, MD 20910

(3) Fax: 301-713-0376, Attn: NMFS Deputy Chief, Endangered Species Division

FOR FURTHER INFORMATION CONTACT: Therese Conant (ph. 301-713-1401, fax 301-713-0376) or Tom Shearer (ph. 361-994-9005, fax 361-994-8626).

SUPPLEMENTARY INFORMATION:

Availability of the Draft Recovery Plan

Interested persons may obtain the Plan for review on the Internet at http://www.nmfs.noaa.gov/pr/recovery/plans.htm or http://www.fws.gov/kempsridley/ or by contacting Therese Conant or Tom Shearer (see FOR FURTHER INFORMATION CONTACT).

Background

On March 16, 2010, we published a Notice of Availability of the draft Plan for public review and comment (75 FR 12496). This Plan discusses the natural history, current status, and the known and potential threats to the Kemp's ridley. The Plan lays out a recovery strategy to address the potential threats based on the best available science and includes recovery goals and criteria. The Plan is not a regulatory action, but presents guidance for use by agencies and interested parties to assist in the recovery of loggerhead turtles. The Plan identifies substantive actions needed to achieve recovery by addressing the threats to the species. We received requests to extend the public comment period. In response to these requests, we are extending the comment period for an additional 45 days, ending July 1, 2010.

Authority: 16 U.S.C. 1531 et seq.

Dated: May 5, 2010.
Therese Conant,
Acting Chief, Endangered Species Division, Office of Protected Resources, National Marine Fisheries Service.

[FR Doc. 2010-11017 Filed 5-7-10; 8:45 am]

BILLING CODE 3510-22-S